DEPARTMENT OF LABOR

Employment and Training Administration

[TA-W-63,401]

Unifi, Inc., Staunton, VA; Notice of Termination of Investigation

Pursuant to Section 221 of the Trade Act of 1974, as amended, an investigation was initiated on May 19, 2008 in response to a petition filed by a company official on behalf of workers at Unifi, Inc., Staunton, Virginia.

The company has requested that the petition be withdrawn. The company intends to submit a new petition closer to the date of separation or threat of separation.

Consequently, further investigation in this case would serve no purpose, and the investigation has been terminated.

Signed at Washington, DC, this 19th day of June 2008.
Elliott S. Kushner,
Certifying Officer, Division of Trade Adjustment Assistance.

[FR Doc. E8-14606 Filed 6-26-08; 8:45 am]

BILLING CODE 4510-FN-P